DEPARTMENT OF ENERGY

National Nuclear Security Administration

Withdrawal of the Notice of Intent To Prepare an Environmental Impact Statement for the Operation of a Biosafety Level 3 Facility at Los Alamos National Laboratory, Los Alamos, New Mexico

AGENCY: National Nuclear Security Administration, Department of Energy.

ACTION: Notice of intent; withdrawal.

SUMMARY: On November 29, 2005, the National Nuclear Security Administration (NNSA), a semi-autonomous agency within the U.S. Department of Energy (DOE), announced its intent to prepare an Environmental Impact Statement (EIS) in accordance with National Environmental Policy Act of 1969 (NEPA) to evaluate the operation of a Biosafety Level (BSL)-3 Facility at LANL. NNSA has determined that, at this point in time, it does not have a need to operate a BSL-3 Facility at Los Alamos National Laboratory (LANL), in Los Alamos, New Mexico. Therefore, NNSA is withdrawing the Notice of Intent to prepare an EIS and is terminating the NEPA EIS process.

FOR FURTHER INFORMATION CONTACT: Greg Wolf, Deputy Director, Office of Public Affairs, National Nuclear Security Administration. Phone (202) 586-2561 or via email at gregory.wolf@nnsa.doe.gov.

SUPPLEMENTARY INFORMATION: NNSA published a notice of intent to prepare an EIS in the November 29, 2005, issue of the Federal Register (70 FR 71490). In 2002, NNSA prepared an Environmental Assessment for the construction and operation of the Facility. On February 26, 2002, NNSA issued an Environmental Assessment and a Finding of No Significant Impact (FONSI) for the construction and operation of the BSL-3 Facility.

Construction on the windowless, single-story, 3,200-square foot BSL-3 Facility, housing one BSL-2 laboratory, and two BSL-3 laboratories began in late 2002, and was completed in the fall of 2003. After completion of the NEPA process and BSL-3 Facility construction, NNSA determined there were seismic concerns that had not been adequately analyzed during the design of the BSL-3 Facility. As a result, in February 2004, NNSA withdrew the FONSI with respect to the operation of the BSL-3 Facility and subsequently decided to prepare an environmental impact statement. The EIS would have evaluated the potential environmental impacts associated with the proposed Federal action and reasonable alternatives. NNSA is now terminating the NEPA EIS process.

Issued in Washington, DC, this 4th day of May, 2018.
Lisa E. Gordon-Hagerty,
Under Secretary for Nuclear Security, Administrator, National Nuclear Security Administration.

[FR Doc. 2018-10875 Filed 5-21-18; 8:45 am]

BILLING CODE 6450-01-P